ENVIRONMENTAL PROTECTION AGENCY

[EPA-HQ-OPPT-2009-0718; FRL-8792-6]

National Advisory Committee for Acute Exposure Guideline Levels for Hazardous Substances; Notice of Charter Renewal

AGENCY: Environmental Protection Agency (EPA).

ACTION: Notice.

SUMMARY: Notice is hereby given that EPA has determined that, in accordance with the provisions of the Federal Advisory Committee Act (FACA), 5 U.S.C. Appendix, the National Advisory Committee for Acute Exposure Guideline Levels for Hazardous Substances (NAC/AEGL Committee) is a necessary committee which is in the public interest. Accordingly, the NAC/AEGL Committee will be renewed for an additional 2-year period. The purpose of the NAC/AEGL Committee is to provide advice and recommendations to the EPA Administrator on issues associated with acute exposure guideline levels which can be used by Federal, State, and local agencies and the private sector for emergency planning response and prevention activities related to release of hazardous substances through accident or chemical terrorism activity. The NAC/AEGL Committee's recommended values will represent standardized national acute exposure guideline levels developed by a cross-section of the U.S. scientific community and based on the use of consistent methodology developed by the National Academy of Sciences.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Paul S. Tobin, Designated Federal Officer (DFO), Risk Assessment Division (7403M), Office of Pollution Prevention and Toxics, 1200 Pennsylvania Ave., NW., Washington, DC 20460-0001; telephone number: (202) 564-8557; e-mail address: tobin.paul @epa.gov.

SUPPLEMENTARY INFORMATION:

I. Does this Action Apply to Me?

This action is directed to the public in general. This action may be of particular interest to anyone who may be affected if AEGL values are adopted by government agencies for emergency planning, prevention, or response programs, such as EPA's Risk Management Program under the Clean Air Act and Amendments Section 112r. It is possible that other Federal agencies besides EPA, as well as State agencies and private organizations may adopt AEGL values for their programs. As such, the Agency has not attempted to describe all the specific entities that may be affected by this action. If you have any questions regarding the applicability of this action to a particular entity, consult the technical person listed under FOR FURTHER INFORMATION CONTACT.

II. How Can I Get Copies of this Document and Other Related Information?

EPA has established a docket for this action under docket identification (ID) number EPA-HQ-OPPT-2009-0718. All documents in the docket are listed in the docket index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

List of Subjects

Environmental protection, Acute exposure guideline levels, Administrative practice and procedure, Hazardous substances, Health and safety.

Dated: October 28, 2009.
Stephen A. Owens,
Assistant Administrator, Office of Prevention, Pesticides and Toxic Substances.

[FR Doc. E9-26704 Filed 11-4-09; 8:45 am]

BILLING CODE 6560-50-S